COMMODITY FUTURES TRADING COMMISSION

Agency Information Collection Activities Under OMB Review

AGENCY: Commodity Futures Trading Commission.

ACTION: Notice.

SUMMARY: In compliance with the Paperwork Reduction Act of 1995 (“PRA”), this notice announces that the Information Collection Request (“ICR”) abstracted below has been forwarded to the Office of Management and Budget (“OMB”) for review and comment. The ICR describes the nature of the information collection and its expected costs and burden.

DATES: Comments must be submitted on or before September 28, 2015.

ADDRESSES: Comments regarding the burden estimated or any other aspect of the information collection, including suggestions for reducing the burden, may be submitted directly to the Office of Information and Regulatory Affairs (“OIRA”) in OMB, within 30 days of the notice's publication, by email at OIRAsubmissions@omb.eop.gov. Please identify the comments by OMB Control No. 3038-0007. Please provide the Commission with a copy of all submitted comments at the address listed below. Please refer to OMB Reference No. 3038-0007, found on http://reginfo.gov.

Comments may also be mailed to the Office of Information and Regulatory Affairs, Office of Management and Budget, Attention: Desk Officer for the Commodity Futures Trading Commission, 725 17th Street NW., Washington, DC 20503. You may also submit comments, identified by Renewal of Collection Number 3038-0007 and “Regulation of Domestic Exchange-Traded Options,” by any of the following methods:

• The Agency's Web site, via its Comments Online process: http://comments.cftc.gov. Follow the instructions for submitting comments through the Web site.

• Mail: Christopher Kirkpatrick, Secretary of the Commission, Commodity Futures Trading Commission, Three Lafayette Centre, 1155 21st Street NW., Washington, DC 20581.

• Delivery/Courier: Same as Mail above.

• Federal eRulemaking Portal: http://www.regulations.gov/. Follow the instructions for submitting comments through the Portal.

All comments must be submitted in English, or if not, accompanied by an English translation. Comments will be posted as received to http://www.cftc.gov. You should submit only information that you wish to make available publicly. If you wish the Commission to consider information that you believe is exempt from disclosure under the Freedom of Information Act, a petition for confidential treatment of the exempt information may be submitted according to the procedures established in § 145.9 of the Commission's regulations.¹

¹ 17 CFR 145.9, 74 FR 17395 (Apr. 15, 2009).

The Commission reserves the right, but shall have no obligation, to review, pre-screen, filter, redact, refuse or remove any or all of your submission from http://www.cftc.gov that it may deem to be inappropriate for publication, such as obscene language. All submissions that have been redacted or removed that contain comments on the merits of the ICR will be retained in the public comment file and will be considered as required under the Administrative Procedure Act and other applicable laws, and may be accessible under the Freedom of Information Act.

FOR FURTHER INFORMATION CONTACT: Commodity Futures Trading Commission, Three Lafayette Centre, 1155 21st Street NW., Washington, DC 20581; Dana R. Brown, Division of Market Oversight, telephone: (202) 418-5093 and email: dbrown@cftc.gov; or Jacob Chachkin, Division of Swap Dealer and Intermediary Oversight, telephone: (202) 418-5496 and email: jchachkin@cftc.gov.

SUPPLEMENTARY INFORMATION: Title: Rules Relating to Regulation of Domestic Exchange Traded-Options (OMB Control No. 3038-0007). This is a request for extension of a currently approved information collection.

Abstract: The rules require futures commission merchants and introducing brokers: (1) To provide their customers with standard risk disclosure statements concerning the risk of trading commodity interests; and (2) to retain all promotional material and the source of authority for information contained therein. The purpose of these rules is to ensure that customers are advised of the risks of trading commodity interests and to avoid fraud and misrepresentation. This information collection contains the recordkeeping and reporting requirements needed to ensure regulatory compliance with Commission rules relating to this issue.

Burden Statement: The Commission estimates the burden of this collection of information as follows:

Estimated Annual Reporting Burden
Regulation | Estimated number of respondents or recordkeepers per year | Reports annually by each respondent | Total annual responses | Estimated average number of hours per response | Estimated total number of hours of annual burden in fiscal year
Reporting:
38.3, 38.4, 40.2 and 40.3 (Procedure for designation or self-certification) | 13.00 | 2.00 | 26.00 | 25.00 | 650.00
33.7—(Risk disclosure) | 1,401.00 | 115.00 | 161,115.00 | 0.08 | 12,889.20
Subtotal (Reporting requirements) | 1,414.00 |  | 20,151.00 |  | 13,539.20
Recordkeeping:
33.8—(Retention of promotional material) | 1,401.00 | 1.00 | 1,401.00 | 25.00 | 35,025.00
Subtotal (Recordkeeping requirements) | 1,401.00 | 1.00 | 1,401.00 | 25.00 | 35,025.00
Grand total (Reporting and Recordkeeping) | 2,815.00 |  | 21,155.20 |  | 48,564.2

There are no capital costs or operating and maintenance costs associated with this collection.

Authority: 44 U.S.C. 3501 et seq.

Dated: August 24, 2015.
Robert N. Sidman,
Deputy Secretary of the Commission.

[FR Doc. 2015-21252 Filed 8-26-15; 8:45 am]

BILLING CODE 6351-01-P